DEPARTMENT OF THE INTERIOR

Fish and Wildlife Service

Aquatic Nuisance Species Task Force Meeting

AGENCY: Fish and Wildlife Service, Interior.

ACTION: Notice of meeting.

SUMMARY: This notice announces a field trip and meeting of the Aquatic Nuisance Species Task Force. The focus of the field trip and meeting topics are identified in the SUPPLEMENTARY INFORMATION.

DATES: The field trip will take place from 12:30 p.m. to 6 p.m., Monday, April 3, 2000. The Aquatic Nuisance Species Task Force will meet from 8:30 a.m. to 5 p.m., Tuesday, April 4, 2000 and 8:30 a.m. to 12 p.m., Wednesday, April 5, 2000.

ADDRESSES: The field trip will begin at the Doubletree Inn, 2649 South Bayshore Drive, Miami, Florida. The meeting will be held at the Rosenstiel School of Marine and Atmospheric Science, Virginia Key, Miami, Florida in the auditorium.

FOR FURTHER INFORMATION CONTACT: Sharon Gross, Executive Secretary, Aquatic Nuisance Species Task Force at 703-358-2308 or by e-mail at: sharon_gross@fws.gov.

SUPPLEMENTARY INFORMATION: Pursuant to section 10(a)(2) of the Federal Advisory Committee Act (5 U.S.C. App. I), this notice announces a field trip and meeting of the Aquatic Nuisance Species Task Force. The Task Force was established by the Nonindigenous Aquatic Nuisance Prevention and Control Act of 1990.

The field trip will consist of a visit to an area where the Asian Swamp Eel is present and causing impacts as well as other areas where invasive plant and animal species have caused significant impacts. Topics to be covered during the ANS Task Force meeting on Tuesday and Wednesday include the following: briefings about regional nonindigenous species problems and initiatives; updates of activities from the Task Force's regional panels; discussion of the Coast Guard's ballast water management program; discussion of the Asian Swamp Eel and other invasive aquatic species of concern; overview of the activities of the Invasive Species Council; discussion of the guidance for the State ANS Management Plans; and overview of an outreach and education initiative.

Minutes of the meeting will be maintained by the Executive Secretary, Aquatic Nuisance Species Task Force, Suite 851, 4401 North Fairfax Drive, Arlington, Virginia 22203-1622, and will be available for public inspection during regular business hours, Monday through Friday.

Dated: March 13, 2000.
Hannibal Bolton,
Co-Chair, Aquatic Nuisance Species Task Force, Acting Assistant Director—Fisheries.

[FR Doc. 00-6561 Filed 3-15-00; 8:45 am]

BILLING CODE 4310-55-M